DEPARTMENT OF ENERGY

Federal Energy Regulatory Commission

[Docket No. CP12-493-000]

Cadeville Gas Storage LLC; Notice of Request Under Blanket Authorization

On July 27, 2012, Cadeville Gas Storage LLC (Cadeville) filed with the Federal Energy Regulatory Commission (Commission) an application under section 157.213(b) of the Commission's Regulations for authority to construct an additional natural gas storage and injection well at Cadeville's natural gas storage facility in Ouachita Parish, Louisiana. The storage facility was originally approved by FERC in Docket No. CP10-16-000 on August 10, 2010, as more fully detailed in the Application.

Questions concerning this application may be directed to Paul T. Lanham, Sr. Vice President Engineering and Operations, Cadeville Gas Storage Company, LLC, Three Riverway, Suite 1350, Houston, Texas 77056, or by calling 713-350-2500 or by emailing Paul.Lanham@cardinalgs.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission encourages electronic submission of protests and interventions in lieu of paper using the “eFiling” link at http://www.ferc.gov. Persons unable to file electronically should submit an original and seven copies of the protest or intervention to the Federal Energy Regulatory Commission, 888 First Street NE., Washington, DC 20426. This filing is accessible on-line at http://www.ferc.gov using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Dated: August 9, 2012.
Kimberly D. Bose,
Secretary.

[FR Doc. 2012-20311 Filed 8-17-12; 8:45 am]

BILLING CODE 6717-01-P